DEPARTMENT OF AGRICULTURE

Forest Service

Notice of Proposed New Fee Site

AGENCY: Forest Service, Agriculture (USDA).

ACTION: Notice of proposed new fee site.

SUMMARY: The Helena-Lewis and Clark National Forest is proposing to charge a new fee at a recreation site listed in SUPPLEMENTARY INFORMATION of this notice. Funds from the fee would be used for operation, maintenance, and improvements of the recreation site. An analysis of nearby developed recreation sites with similar amenities shows the proposed fee is reasonable and typical of similar sites in the area.

DATES: If approved, the new fee would be implemented no earlier than six months following the publication of this notice in the Federal Register.

ADDRESSES: Helena-Lewis & Clark National Forest, 2880 Skyway Drive, Helena, MT 59602.

FOR FURTHER INFORMATION CONTACT: Rory Glueckert, Recreation Program Manager, 406-495-3761 or rory.glueckert@usda.gov.

SUPPLEMENTARY INFORMATION: The Federal Recreation Lands Enhancement Act (Title VII, Pub. L. 108-447) directed the Secretary of Agriculture to publish a six-month advance notice in the Federal Register whenever new recreation fee areas are established. The fee is only proposed at this time and will be determined upon further analysis and public comment. Reasonable fees, paid by users of these sites, will help ensure that the Forest can continue maintaining and improving recreation sites like this for future generations.

The Ear Mountain Cabin would be a new recreation rental opportunity and is proposed at $75 per night.

This new fee would provide increased visitor opportunities, as well as increased staffing to address operations and maintenance needs and enhance customer service. Once public involvement is complete, these new fees will be reviewed by a Recreation Resource Advisory Committee prior to a final decision and implementation.

Advanced reservations for the cabin will be available through www.recreation.gov or by calling 1-877-444-6777. The reservation service charges an $8.00 fee for reservations.

Dated: June 22, 2022.
Sandra Watts,
Acting Associate Deputy Chief, National Forest System.

[FR Doc. 2022-13674 Filed 6-24-22; 8:45 am]

BILLING CODE 3411-15-P